DEPARTMENT OF COMMERCE

National Oceanic and Atmospheric Administration

RIN 0648-XO56

Endangered Species; File No. 1549-01

AGENCY: National Marine Fisheries Service (NMFS), National Oceanic and Atmospheric Administration (NOAA), Commerce.

ACTION: Notice; issuance of permit modification.

SUMMARY: Notice is hereby given that Dr. Boyd Kynard, S.O. Conte Anadromous Fish Research Center (USGS-BRD), Box 796, One Migratory Way, Turners Falls, MA 01376, has been issued a modification to scientific research Permit No. 1549-01.

ADDRESSES: The modification and related documents are available for review upon written request or by appointment in the following offices:

Permits, Conservation and Education Division, Office of Protected Resources, NMFS, 1315 East-West Highway, Room 13705, Silver Spring, MD 20910; phone (301)713-2289; fax (301)427-2521; and

Northeast Region, NMFS, 55 Great Republic Drive, Gloucester, MA 01930; phone (978)281-9300; fax (978)281-9333.

FOR FURTHER INFORMATION CONTACT: Malcolm Mohead or Kate Swails, (301)713-2289.

SUPPLEMENTARY INFORMATION: On August 4, 2008, notice was published in the Federal Register (73 FR 45215) that a modification of Permit No. 1549 had been requested by the above-named individual. The requested modification has been granted under the authority of the Endangered Species Act of 1973, as amended (ESA; 16 U.S.C. 1531 et seq.) and the regulations governing the taking, importing, and exporting of endangered and threatened species (50 CFR 222-226).

In addition to all research activities authorized under Permit No. 1549, this modification authorizes the researcher to conduct new research in the Merrimack River to: (1) take 200 adult/large juvenile and 100 small juvenile (0-3 years) shortnose sturgeon; (2) use trawls for capture of smaller juveniles; (3) telemetry tag 15 adults/large juveniles and 15 early juveniles; (4) change the action area to include the Estuary to I-495 at Haverhill, MA; and (5) increase incidental mortality of shortnose sturgeon to a total of two sturgeon, but only one adult per year. The purpose of the modification is to provide a mark/recapture population estimate of shortnose sturgeon for the river and to provide evidence for recolonization verses recruitment to explain an apparent recent increase in abundance of shortnose sturgeon recently found in the river. This modification is valid through the expiration date of the original permit, January 31, 2012.

Issuance of this modification, as required by the ESA, was based on a finding that such permit (1) was applied for in good faith, (2) will not operate to the disadvantage of such endangered or threatened species, and (3) is consistent with the purposes and policies set forth in section 2 of the ESA.

Dated: April 9, 2009.
Tammy C. Adams,
Acting Chief, Permits, Conservation and Education Division, Office of Protected Resources, National Marine Fisheries Service.

[FR Doc. E9-8757 Filed 4-15-09; 8:45 am]

BILLING CODE 3510-22-S